SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

(SSA Address)

Social Security Administration, DCFAM, Attn: Frederick W. Brickenkamp, 1-A-21 Operations Bldg., 6401 Security Blvd., Baltimore, MD 21235

(OMB Address)

Office of Management and Budget, OIRA, Attn: Desk Officer for SSA, New Executive Office Building, Room 10230, 725 17th St., NW., Washington, DC 20503

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Function Report—Adult—0960-0603. Form SSA-3373-TEST is used by the Social Security Administration (SSA) to record the claimant's description of his or her impairment-related limitations and ability to function. The respondents are Applicants for Title II (Old-Age, Survivors and Disability Insurance) and Title XVI (Supplemental Security Income) benefits.

Number of Respondents: 7,000.

Frequency of Response: 1.

Average Burden Per Response: 30.

Estimated Annual Burden: 3,500.

1. Physical Residual Functional Capacity Assessment; Mental Residual Functional Capacity Assessment—0960-0431. The information collected on form SSA-4734 is needed by SSA to assist in the adjudication of disability claims involving physical and/or mental impairments. The form assists the State DDS to evaluate impairment(s) by providing a standardized data collection format to present findings in a clear, concise and consistent manner. The respondents are State DDSs administering title II and title XVI disability programs.

Number of Responses: 1,130,772.

Frequency of Response: 1.

Average Burden Per Response: 20 minutes.

Estimated Annual Burden: 376,924 hours.

3. Modified Benefit Formula Questionnaire-Foreign Pension—960-0561. The information collected on form SSA-308 is used by SSA to determine exactly how much (if any) of the foreign pension may be used to reduce the amount of the Social Security retirement or disability benefit under the modified benefit formula. The respondents are applicants for Social security retirement/disability benefits.

Number of Responses: 50,000.

Frequency of Response: 1.

Average Burden Per Response: 10 minutes.

Estimated Annual Burden: 8,333 hours.

II. The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. Application for Benefits Under The Federal Mine And Safety And Health Act Of 1977, as Amended (Widow's Claim, Child's Claim And Dependent's Claim)—0960-0118. Section 402(g) and Section 412(a) of the Federal Mine Safety and Health Act provide that those widows, surviving children and dependents (parents, and brothers or sisters) who are not currently receiving benefits on the deceased miner's account must file the appropriate application within 6 months of the deceased miner's death. Forms SSA-47-F4, SSA-48-F4, and SSA-49-F3 are used by the Social Security Administration (SSA) to determine eligibility. The respondents are widows, surviving children and dependents (parents, brothers or sisters) who are not currently receiving Black Lung benefits on the deceased miner's account.

| SSA-47-F4 | SSA-48-F4 | SSA-49-F3
Number of Respondents | 600 | 600 | 600
Frequency of Response | 1 | 1 | 1
Average Burden Per Response (minutes) | 11 | 11 | 11
Estimated Annual Burden (hours) | 110 | 110 | 110

2. Representative Payee Report of Benefits and Dedicated Account—0960-0576. Form SSA-6233 is used to ensure that the representative payee is using the benefits received for the beneficiary's current maintenance and personal needs and that expenditures of funds from the dedicated account are in compliance with the law. The respondents are individuals and organizational representative payees required by law to establish a separate (“dedicated”) account in a financial institution for certain past-due SSI benefits.

Number of Respondents: 30,000.

Frequency of Response: 1.

Average Burden Per Response: 20 minutes.

Estimated Annual Burden: 10,000 hours.

3. Physician's/Medical Officer's Statement of Patient's Capability to Manage Benefits—0960-0024. SSA uses the information collected on Form SSA-787 to determine an individual's capability, or lack thereof, to handle his or her own benefits. The information also provides SSA with leads to follow in selecting a representative payee, if needed. The respondents are physicians of these beneficiaries.

Number of Respondents: 120,000.

Frequency of Response: 1.

Average Burden Per Response: 10 minutes.

Estimated Annual Burden: 20,000 hours.

4. Certificate of Responsibility for Welfare and Care of Child Not in Applicant's Custody—0960-0019. SSA uses the information collected on form SSA-781 to decide if “in care” requirements are met by non-custodial parent(s), who is filing for benefits based on having a child in care. The respondents are non-custodial wage earners whose entitlement to benefits depends upon having an entitled child in care.

Number of Respondents: 14,000.

Frequency of Response: 1.

Average Burden Per Response: 10 minutes.

Estimated Annual Burden: 2,333 hours.

5. Questionnaire for Children Claiming SSI Benefits—0960-0499. The information collected on form SSA-3881 is used by SSA to evaluate disability in children who apply for Supplemental Security Income (SSI) payments. The respondents are individuals who apply for SSI benefits for a disabled child.

Number of Respondents: 272,000.

Frequency of Response: 1.

Average Burden Per Response: 30 minutes.

Estimated Annual Burden: 136,000 hours.

6. Application for a Social Security Card—0960-0066. The information collected is needed to assign a Social Security Number (SSN) and issue a card. The form SS-5 is one method of collecting the information and is available in paper and on the Internet. The applicant can print the SS-5 from the Internet but must still complete, sign and return it to SSA with the required documentation as is currently required for the paper SS-5. An individual can also provide the information through an in-person interview, or through the Enumeration at Birth (EAB) process. In the EAB process, the State Bureaus of Vital Statistics electronically transmit the birth data to SSA. The data is then uploaded to the SSA mainframe and the newborn is assigned an SSN.

SSA screens its records to make sure applicants for original SSN cards don't already have SSNs before assigning an original number. SSA also uses the information to ensure that replacement SSN cards are issued to the correct number holder. Use of SSNs enables SSA to keep an accurate record of each individual's earnings for the payment of benefits and for administrative purposes as an identifier for health-maintenance and income-maintenance programs, such as the Retirement, Survivors and Disability Insurance programs, the SSI program and other programs administered by the Federal government including Black Lung, Medicare and veterans compensation and pension programs. The Internal Revenue Service uses the SSN as a taxpayer identification number for the administration of tax benefits based on support or residence of children. The respondents are applicants for original, duplicate or corrected Social Security cards and State Bureaus of Vital Statistics.

Public Reporting Burden for the SS-5

Number of Respondents: 14,000,000.

Frequency of Response: 1.

Average Burden Per Response: 8½-9 minutes.

Estimated Annual Burden: 1,991,667 hours.

Public Reporting Burden for the State Bureaus of Vital Statistics

Please note that this notice corrects a previous notice (Vol. 65, No. 250, page 82442, 12/28/2000) that contained erroneous information on the public reporting burden for the EAB process. Following is the correct information: The respondent Bureaus of Vital Statistics are reimbursed by SSA at the imputed cost of approximately $1.83 per record for approximately 4,026,800 records. The total cost is $7,376,339.

Dated: January 29, 2001.
Frederick W. Brickenkamp,
Reports Clearance Officer.

[FR Doc. 01-2797 Filed 2-1-01; 8:45 am]

BILLING CODE 4191-02-U